DEPARTMENT OF ENERGY

Federal Energy Regulatory Commission

[Docket Nos. CP17-117-000; CP17-118-000]

Driftwood LNG LLC and Driftwood Pipeline LLC; Notice of Schedule for Environmental Review of the Driftwood LNG Project

On March 31, 2017, Driftwood LNG LLC (Driftwood LNG) filed an application in Docket No. CP17-117-000 requesting authorization pursuant to Section 3(a) of the Natural Gas Act (NGA) to construct and operate liquefied natural gas (LNG) export facilities. On the same day, Driftwood Pipeline, LLC (Driftwood Pipeline) filed an application in Docket No. CP17-118-000, requesting a Certificate of Public Convenience and Necessity pursuant to Section 7(c) of the NGA to construct, operate, and maintain certain natural gas pipeline facilities. The combined projects, collectively referred to as the Driftwood LNG Project, would provide gas and processing to produce up to 26 million tonnes per annum of LNG for export.

On April 11, 2017, the Federal Energy Regulatory Commission (FERC or Commission) issued its Notice of Application for the project. Among other things, that notice alerted other agencies issuing federal authorizations of the requirement to complete all necessary reviews and to reach a final decision on the request for a federal authorization within 90 days of the date of issuance of the Commission staff's final Environmental Impact Statement (EIS) for the Driftwood LNG Project. This instant notice identifies the FERC staff's planned schedule for completion of the final EIS for the project, which is based on an issuance of the draft EIS in June 2018.

Schedule for Environmental Review

Issuance of Notice of Availability of the final EIS (October 12, 2018)

90-day Federal Authorization Decision Deadline (January 10, 2019)

If a schedule change becomes necessary for the final EIS, an additional notice will be provided so that the relevant agencies are kept informed of the project's progress.

Project Description

Driftwood LNG's proposed facilities would include five LNG liquefaction plants, three LNG storage tanks, and three marine berths capable of accommodating LNG carriers of up to 216,000 cubic meters each. Driftwood LNG's proposed facilities would occupy approximately 720 acres of an 800-acre site on the west bank of the Calcasieu River between river mile markers 22 and 23 in Calcasieu Parish, Louisiana. The Driftwood Pipeline would consist of: About 74 miles of 48-inch-diameter pipeline, 10.6 miles of 42-inch-diameter pipeline, and 11.3 miles of 36-inch-diameter pipeline; one 3.4-mile-long, 30-inch-diameter lateral pipeline collocated with the main pipeline; three compressor stations providing a total of approximately 275,000 horsepower of compression; 15 meter stations; 6 pig launchers and receivers; and 17 mainline valves. These facilities would be located in Calcasieu, Jefferson Davis, Acadia, and Evangeline Parishes, Louisiana.

Background

On June 6, 2016, the Commission staff granted Driftwood LNG's and Driftwood Pipeline's request to use the FERC's Pre-filing environmental review process. On October 3, 2016, the Commission issued a Notice of Intent to Prepare an Environmental Impact Statement for the Planned Driftwood LNG Project, Request for Comments on Environmental Issues, and Notice of Public Scoping Meetings (NOI) in Docket No. PF16-6-000. The NOI was issued during the pre-filing review of the project, and was sent to federal, state, and local government agencies; elected officials; affected landowners; environmental and public interest groups; Native American tribes and regional organizations; commentors and other interested parties; and local libraries and newspapers. Major issues raised during scoping include impact on landowners, vegetation and protected species, visual and noise resources, roadway and marine traffic, and safety.

The U.S Coast Guard, U.S. Department of Energy, U.S Department of Transportation, and U.S. Environmental Protection Agency are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the project is available from the Commission's Office of External Affairs at (866) 208-FERC or on the FERC website (www.ferc.gov). Using the eLibrary link, select General Search from the eLibrary menu, enter the selected date range and Docket Number excluding the last three digits (i.e., CP17-117 or CP17-118), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: December 22, 2017.
Nathaniel J. Davis, Sr.,
Deputy Secretary.

[FR Doc. 2017-28321 Filed 1-2-18; 8:45 am]

BILLING CODE 6717-01-P